DEPARTMENT OF ENERGY

Energy Information Administration

Policy Statement; Solicitation Of Comments On The Proposed Policy For Information In Statistical Tables Based On Confidential Historical Electric Power Survey Data

Correction

In notice document 02-27123 beginning on page 65345 in the issue of Thursday, October 24, 2002, make the following correction:

On page 65345, in the first column, under the DATES heading, in the second line, “December 23, 2002.” should read “ November 25, 2002”.

[FR Doc. C2-27123 Filed 11-1-02; 8:45 am]

BILLING CODE 1505-01-D

SMALL BUSINESS ADMINISTRATION

13 CFR Part 121

RIN 3245-AF00

Small Business Size Standards; Adoption of Size Standards by 2002 North American Industry Classification System for Size Standards

Correction

In rule document 02-22200 beginning on page 56905 in the issue of Friday, September 6, 2002, make the following correction:

§121.201 [Corrected]

On page 56908, in §121.201, in the table, in Subsector 237-Heavy and Civil Engineering Construction, the entry for EXCEPT, is corrected as set forth below:

Small Business Size Standards by NAICS Industry-Continued
NAICS codes | NAICS U.S. industry title | Size standards in millions of dollars | Size standards in number of employees
Sector 23—Construction
Subsector 237—Heavy and Civil Engineering Construction
EXCEPT, | Dredging and Surface Cleanup Activities ² | ² 17.0 |

[FR Doc. C2-22200 Filed 11-1;-02; 8:45 am]

BILLING CODE 1505-01-P

DEPARTMENT OF TRANSPORTATION

Federal Aviation Administration

14 CFR Part 71

[Airspace Docket No. 02-ASO-10]

Establishment of Class E5 Airspace; Franklin, NC

Correction

In rule document 02-26284 appearing on page 63828 in the issue of Wednesday, October 16, 2002, make the following correction:

On page 63828, in the first column, under the heading EFFECTIVE DATE, in the first line, “January 23, 2002” should read “ January 23, 2003”.

[FR Doc. C2-26284 Filed 11-1-02; 8:45 am]

BILLING CODE 1505-01-D